DEPARTMENT OF COMMERCE

International Trade Administration

[A-570-601]

Tapered Roller Bearings and Parts Thereof, Finished and Unfinished, From the People's Republic of China; Amended Final Results of 1990/1991, 1991/1992, and 1992/1993 Antidumping Duty Administrative Reviews

AGENCY: Import Administration, International Trade Administration, Department of Commerce.

ACTION: Notice of final court decision and amended final results of administrative reviews.

EFFECTIVE DATE: April 23, 2001.

FOR FURTHER INFORMATION CONTACT: George Callen or Richard Rimlinger, Import Administration, International Trade Administration, U.S. Department of Commerce, 14th Street and Constitution Avenue, NW., Washington, DC 20230; telephone (202) 482-0180 or (202) 482-4477, respectively.

Applicable Statute

Unless otherwise indicated, all citations to the Tariff Act of 1930, as amended (the Act), are references to the provisions in effect as of December 31, 1994. In addition, unless otherwise indicated, all citations to the Department of Commerce's (the Department) regulations are to the regulations as codified at 19 CFR Part 353 (1995).

Summary

On August 8, 2000, the Department published in the Federal Register its notice of Tapered Roller Bearings and Parts Thereof, Finished and Unfinished, From the People's Republic of China; Amended Final Results of 1990/1991, 1991/1992, and 1992/1993 Antidumping Duty Administrative Reviews, 65 FR 48478 (Amended Final Results). In that notice, the Department published the final margins following affirmation of final remand results by the Court of International Trade (CIT) and the United States Court of Appeals for the Federal Circuit (CAFC). See Peer Bearing Company v. United States, Slip Op. 98-161 (CIT December 7, 1998), aff'd mem., sub nom. The Timken Co. v. United States, No. 99-1204 (Fed. Cir. October 6, 1999).

However, the Amended Final Results did not take into account the final remand results of another decision by the CIT affecting the entries of one firm, Transcom, Inc. See Transcom, Inc. v. United States, Slip Op. 99-86 (CIT August 20, 1999). In that decision, the CIT ordered, pursuant to the decision of the CAFC in Transcom, Inc. v. United States, 182 F.3d 876 (Fed. Cir. 1999), that the Department refund to Transcom all antidumping duty deposits made in excess of the 2.96% “all others” rate established in the original investigation on tapered roller bearings that were collected during the review periods from June 1, 1990, through May 31, 1993.

As there is a final and conclusive court decision in this action, we are amending our final results of reviews, and we will instruct the Customs Service to liquidate entries of Transcom, Inc., at the rate of 2.96% for these review periods.

This notice is published pursuant to section 751(a) of the Act. Effective January 20, 2001, Bernard T. Carreau is fulfilling the duties of the Assistant Secretary for Import Administration.

Dated: April 16, 2001.
Bernard T. Carreau,
Deputy Assistant Secretary, Import Administration.

[FR Doc. 01-9979 Filed 4-20-01; 8:45 am]

BILLING CODE 3510-DS-P